DEPARTMENT OF COMMERCE

National Oceanic and Atmospheric Administration

RIN: 0648-XF81

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a Reef Fish Advisory Panel (AP).

DATES: The meeting will convene at 9 a.m. on Tuesday, March 18, 2008 and conclude no later than 5 p.m.

ADDRESSES: The meeting will be held at the Radisson Hotel, 12600 Roosevelt Blvd., St. Petersburg, FL 33716; telephone: (727) 572-7800.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The Reef Fish AP will review draft Reef Fish Amendment 30B to the Reef Fish Fishery Management Plan. Amendment 30B contains potential management measures to define overfishing and overfished thresholds and an optimum yield (OY) target for gag, end overfishing of gag, increase the total allowable catch (TAC) of the red grouper stock to its OY level, establish recreational and commercial allocations for gag and red grouper, establish accountability measures for gag to assure compliance with ending overfishing, adjust commercial grouper quotas and recreational grouper bag limits, closed seasons, and/or size limits, reduce discards and discard mortality of groupers, establish a new reef fish marine reserve and/or extend the duration of the existing Madison-Swanson and Steamboat Lumps marine reserves, and require that federally permitted reef fish vessels comply with the more restrictive of federal or state reef fish regulations when fishing in state waters.

Copies of the agendas and other related materials can be obtained by calling (813) 348-1630.

Although other non-emergency issues not on the agendas may come before the AP for discussion, in accordance with the Magnuson-Stevens Fishery Conservation and Management Act (Magnuson-Stevens Act), those issues may not be the subject of formal action during these meetings. Actions of the AP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: February 21, 2008.
Tracey L. Thompson,
Acting Director, Office of Sustainable Fisheries, National Marine Fisheries Service.

[FR Doc. E8-3552 Filed 2-25-08; 8:45 am]

BILLING CODE 3510-22-S